DEPARTMENT OF THE TREASURY

Fiscal Service

Surety Companies Acceptable on Federal Bonds: Amendment—United States Fidelity and Guaranty Company

AGENCY: Financial Management Service, Fiscal Service, Department of the Treasury.

ACTION: Notice.

SUMMARY: This is Supplement No. 10 to the Treasury Department Circular 570; 2001 Revision, published July 2, 2001, at 66 FR 35024.

FOR FURTHER INFORMATION CONTACT: Surety Bond Branch at (202) 874-6915.

SUPPLEMENTARY INFORMATION: The underwriting limitation for United States Fidelity and Guaranty Company, which was listed in the Treasury Department Circular 570, July 2, 2001, is hereby amended to read $89,596,000.

Federal bond-approving officers should annotate their reference copies of Treasury Circular 570, 2001 Revision, at 66 FR 35058 to reflect this change, effective today.

The Circular may be viewed and downloaded through the Internet (http://www.fms.treas.gov/c570/index.html). A hard copy may be purchased from the Government Printing Office (GPO), subscription Service, Washington, DC, telephone (202) 512-1800. When ordering the Circular from GPO, use the following stock number: 769-004-04067-1.

Questions concerning this Notice may be directed to the U.S. Department of the Treasury, Financial Management Service, Funds Management Division, Surety Bond Branch, 3700 East-West Highway, Room 6A04, Hyattsville, MD 20782.

Dated: November 1, 2001.
Wanda J. Rogers,
Director, Financial Accounting and Services Division, Financial Management Service.

[FR Doc. 01-28355 Filed 11-9-01; 8:45 am]

BILLING CODE 4810-35-M